DEPARTMENT OF ENERGY

Federal Energy Regulatory Commission

[Project No. 13381-007]

Jonathan and Jayne Chase Troy Mills Hydroelectric Inc.; Notice of Transfer of Exemption

1. By letter filed October 15, 2013, Jonathan Chase informed the Commission that the exemption from licensing for the Troy Hydroelectric Project, FERC No. 13381, originally issued December 2, 2011,¹ has been transferred to Troy Mills Hydroelectric Inc. The project is located on the Missisquoi River in Orleans County, Vermont. The transfer of an exemption does not require Commission approval.

¹ 137 FERC ¶ 62,205, Order Granting Exemption From Licensing (5 MW OR LESS).

2. Troy Mills Hydroelectric Inc. is now the exemptee of the Troy Hydroelectric Project, FERC No. 13381. All correspondence should be forwarded to: Mr. Jonathan Chase, President, Troy Mills Hydroelectric Inc., 361 Goodall Road, Derby Line, Vermont 05830.

Dated: November 13, 2013.
Kimberly D. Bose,
Secretary.

[FR Doc. 2013-27748 Filed 11-19-13; 8:45 am]

BILLING CODE 6717-01-P